DEPARTMENT OF AGRICULTURE

Farm Service Agency

Public Meetings of Advisory Committee on Beginning Farmers and Ranchers

AGENCY: Farm Service Agency, USDA.

ACTION: Notice of public meetings.

SUMMARY: The Farm Service Agency (FSA) is issuing this notice to advise the public that meetings of the Advisory Committee on Beginning Farmers and Ranchers (Committee) will be held to discuss various beginning farmer issues, including recommendations drafted at last year's meetings.

DATES: The public meetings will be held May 6-7, 2002. The first meeting on May 6, 2002, will start at 1 p.m. and end at 5 p.m. On May 7, 2002, the meeting will begin at 8 a.m. and end by 4 p.m. All meetings will be held at the Adams Mark Hotel, Fourth and Chestnut, St. Louis, Missouri, telephone (314) 241-7400. All times noted are Central Standard Time (CST).

ADDRESSES: Mark Falcone, Designated Federal Official for the Advisory Committee on Beginning Farmers and Ranchers, Farm Service Agency, U.S. Department of Agriculture, 1400 Independence Avenue, SW, STOP 0522, Washington, DC 20250-0522; telephone (202) 720-1632; FAX (202) 690-1117; e-mail mark_falcone@wdc.usda.gov.

FOR FURTHER INFORMATION CONTACT: Mark Falcone at (202) 720-1632.

SUPPLEMENTARY INFORMATION: Section 5 of the Agricultural Credit Improvement Act of 1992 (Pub. L. 102-554) required the Secretary of Agriculture to establish the Committee for the purpose of advising the Secretary on the following:

(1) The development of a program of coordinated financial assistance to qualified beginning farmers and ranchers required by section 309(i) of the Consolidated Farm and Rural Development Act (Federal and State beginning farmer programs provide joint financing to beginning farmers and ranchers); (2) methods of maximizing the number of new farming and ranching opportunities created through the program; (3) methods of encouraging States to participate in the program; (4) the administration of the program; and (5) other methods of creating new farming or ranching opportunities.

Departmental Regulation 1042-119 dated January 15, 2001, formally established the Committee and designated FSA to provide support. The Committee meets at least once a year and all meetings are open to the public. The duration of the Committee is indefinite.

Earlier meetings of the Committee, held August 31-September 2, 1999, April 11-12, 2000, and June 19-20, 2001, provided an opportunity for members to exchange ideas on ways to increase opportunities for beginning farmers and ranchers through Federal-State partnerships and to encourage more State participation. Members discussed various issues and drafted numerous recommendations, which were provided to the Secretary. Many of last year's recommendations were included in the proposed 2002 Farm Bill, which members will discuss, along with other issues that were tabled at last year's meetings.

Attendance is open to all interested persons but limited to space available. Anyone wishing to make an oral statement should submit their request in writing (letter, fax, or e-mail) to Mark Falcone at the above address. Statements should be received no later than May 1, 2002. Requests should include the name and affiliation of the individual who will make the presentation and an outline of the issues to be addressed. The floor will be open to oral presentations beginning at 1:00 p.m. CST on May 7, 2002. Comments will be limited to 5 minutes, and presenters will be approved on a first-come, first-served basis.

Persons with disabilities who require special accommodations to attend or participate in the meetings should contact Mark Falcone by May 1, 2002.

Signed in Washington, DC, on April 12, 2002.
James R. Little,
Administrator, Farm Service Agency.

[FR Doc. 02-9735 Filed 4-17-02; 1:29 pm]

BILLING CODE 3410-05-P